NATIONAL SCIENCE FOUNDATION

Proposal Review Panel for Computing and Communication Foundations; Notice of Meeting

In accordance with the Federal Advisory Committee Act (Pub. L. 92-463, as amended), the National Science Foundation (NSF) announces the following meeting:

Name and Committee Code: Proposal Review Panel for Computing and Communication Foundations (#1192)—Expeditions in Computing Division—Year 2 DeepSpec Site Visit

Date and Time: September 5, 2018; 7:00 p.m.-9:00 p.m.

September 6, 2018; 8:00 a.m.-9:00 p.m.

September 7, 2018; 8:30 a.m.-3:30 p.m.

Place: BU George Sherman Union, Metcalf Hall, 775 Commonwealth Ave. Boston, MA 02215.

Type of Meeting: Part-Open.

Contact Person: Mitra Basu, Expeditions in Computing Program, National Science Foundation, 2415 Eisenhower Avenue, Alexandria, Virginia 22314; Telephone 703/292-8910.

Purpose of Meeting: Site visit to assess the progress of the EIC Award: CCF-1522074, “Collaborative Research: Evolvable Living Computing—Understanding and Quantifying Synthetic Biological Systems' Applicability, Performance, and Limits,” and to provide advice and recommendations concerning further NSF support for the project.

Agenda

Wednesday, September 5, 2018

7:00 p.m.-9:00 p.m.: Closed—Evening briefing to discuss the Expeditions award and forthcoming site visit.

Thursday, September 6, 2018

8:00 a.m.-12:30 p.m.: Open—Presentations by Awardee Institution, faculty staff and students, to Site Team and NSF Staff. Discussions and question and answer sessions.

1:30 p.m.-2:00 p.m.: Closed—NSF Staff and Panelists deliberation.

2:00 p.m.- 5:00 p.m.: Open—Continued presentations by Awardee Institution. Response and feedback to presentations by Site Team and NSF Staff. Discussions and question and answer sessions. Draft report on education and research activities. Complete written site visit report with preliminary recommendations.

6:00 p.m.-9:00 p.m.: Closed—NSF Staff and Panelists working dinner.

Friday, September 7, 2018

8:30 a.m.-10:00 a.m.: Open—Expeditions PIs responses to issues raised by panelists.

10:30 a.m.-2:30 p.m.: Closed—Panelists prepare site visit report.

2:30 p.m.-3:30 p.m.: Open—Presentation of site visit report to Expeditions leadership team.

Reason for Closing: Topics to be discussed and evaluated during closed portions of the site review will include information of a proprietary or confidential nature, including technical information; and information on personnel. These matters are exempt under 5 U.S.C. 552b(c), (4) and (6) of the Government in the Sunshine Act.

Dated: August 7, 2018.
Crystal Robinson,
Committee Management Officer.

[FR Doc. 2018-17230 Filed 8-10-18; 8:45 am]

BILLING CODE 7555-01-P